DEPARTMENT OF HOMELAND SECURITY

Coast Guard

33 CFR Part 165

[Docket No. USCG-2011-0456]

Safety Zones; Annual Fireworks Events in the Captain of the Port Detroit Zone

AGENCY: Coast Guard, DHS.

ACTION: Notice of enforcement of regulation.

SUMMARY: The Coast Guard will enforce various safety zones for annual fireworks events in the Captain of the Port Detroit zone from 9:40 p.m. on May 27, 2011 through 9:45 p.m. on September 4, 2011. This action is necessary and intended to ensure safety of life on the navigable waters immediately prior to, during, and immediately after fireworks events. This rule will establish restrictions upon, and control movement of, vessels in a specified area immediately prior to, during, and immediately after fireworks events. During each enforcement period, no person or vessel may enter the respective safety zone without permission of the Captain of the Port.

DATES: The regulations in 33 CFR 165.941 will be enforced at various times between June 8, 2011 until September 4, 2011.

FOR FURTHER INFORMATION CONTACT: If you have questions on this notice, call or e-mail BM1 Tracy Girard, Response Department, U.S. Coast Guard Marine Safety Unit Toledo, 420 Madison Avenue, Toledo, OH 43604; telephone (419)-418-6036, e-mail Tracy.M.Girard@uscg.mil.

SUPPLEMENTARY INFORMATION: The Coast Guard will enforce the safety zones listed in 33 CFR 165.941, Annual Fireworks Events in the Captain of the Port Detroit Zone, at the following time for the following events:

(1) § 165.941(a)(2) Washington Township Summerfest Fireworks, Toledo, OH

This safety zone will be enforced from 10 p.m. to 10:30 p.m. on June 25, 2011. In the case of inclement weather on June 25, 2011, this safety zone will be enforced from 10 p.m. until 10:30 p.m. on June 26, 2011, weather permitting.

(2) § 165.941(a)(6) Put-In-Bay Fourth of July Fireworks, Put-In- Bay, OH

This safety zone will be enforced from 9:30 p.m. to 11 p.m. on July 4, 2011. In the case of inclement weather on July 4, 2011, this safety zone will be enforced from 9:30 p.m. until 11 p.m. on July 5, 2011, weather permitting.

(3) § 165.941(a)(16) Toledo Country Club Memorial Day Fireworks, Toledo, OH

This safety zone will be enforced from 9:40 p.m. to 10 p.m. on May 27, 2011.

(4) § 165.941(a)(17) Luna Pier Fireworks Show, Luna Pier, MI

This safety zone will be enforced from 9:45 p.m. to 10:15 p.m. on July 02, 2011.

(5) § 165.941(a)(18) Toledo Country Club 4th of July Fireworks, Toledo, OH

This safety zone will be enforced from 9:40 p.m. to 10 p.m. on July 1, 2011.

(6) § 165.941(a)(19) Red, White, Kaboom Lights Up The Night Fireworks, Toledo, OH (formally known as Pharm Lights Up the Night)

This safety zone will be enforced from 10 p.m. to 10:30 p.m. on July 3, 2011.

(7) § 165.941(a)(20) Perrysburg/Maumee 4th of July Fireworks, Perrysburg, OH

This safety zone will be enforced from 10 p.m. to 10:30 p.m. on July 3, 2011. In the case of inclement weather on July 3, 2011, this safety zone will be enforced from 10 p.m. to 10:30 p.m. on July 5, 2011, weather permitting.

(8) § 165.941(a)(21) Lakeside July 4th Fireworks, Lakeside, OH

This safety zone will be enforced from 9:30 p.m. to 9:45 p.m. on July 4, 2011. In the case of inclement weather on July 4, 2011, this safety zone will be enforced from 9:30 p.m. to 9:45 p.m. on July 5, 2011, weather permitting.

(9) § 165.941(a)(22) Catawba Island Club Fireworks, Catawba Island, OH

This safety zone will be enforced from 9:15 p.m. to 9:45 p.m. on July 1, 2011.

(10) § 165.941(a)(23) Red, White and Blues Bang Fireworks, Huron, OH

This safety zone will be enforced from 10:30 p.m. to 10:45 p.m. on July 2, 2011.

(11) § 165.941(a)(24) Huron Riverfest Fireworks, Huron, OH

This safety zone will be enforced from 10:15 P.M. to 10:30 P.M. on July 8, 2011. In the case of inclement weather on July 8, 2011, this safety zone will be enforced from 10:15 p.m. to 10:30 p.m. on July 9, 2011, weather permitting.

(12) § 165.941(a)(25) Kelley's Island, Island Fest Fireworks, Kelley's Island, OH

This safety zone will be enforced from 9:45 p.m. to 10:15 p.m. on July 23, 2011.

(13) § 165.941(a)(28) Lakeside Labor Day Fireworks, Lakeside OH

This safety zone will be enforced from 9:15 p.m. to 9:30 p.m. on September 4, 2011.

(14) § 165.941(a)(29) Catawba Island Club Fireworks, Catawba Island, OH

This safety zone will be enforced from 9:15 p.m. to 9:45 p.m. on September 4, 2011.

Under the provisions of 33 CFR 165.23, entry into, transiting, or anchoring within any one of these safety zones is during a period of enforcement is prohibited unless authorized by the Captain of the Port Detroit or his designated representative. Vessels that wish to transit through the safety zones may request permission from the Captain of the Port Detroit. Requests must be made in advance and approved by the Captain of Port before transits will be authorized. Approvals will be granted on a case by case basis. The Captain of the Port may be contacted via U.S. Coast Guard Sector Detroit on channel 16, VHF-FM. The Coast Guard will give notice to the public via the Local Notice to Mariners that the regulation is in effect.

This notice is issued under authority of 33 CFR 165.23 and 5 U.S.C. 552 (a). If the Captain of the Port determines that any of these safety zones need not be enforced for the full duration stated in this notice, he or she may use a Broadcast Notice to Mariners to grant general permission to enter the safety zone.

Dated: May 25, 2011.
J.E. Ogden,
Captain, U.S. Coast Guard, Captain of the Port, Sector Detroit.

[FR Doc. 2011-14135 Filed 6-7-11; 8:45 am]

BILLING CODE 9110-04-P